DEPARTMENT OF ENERGY

Federal Energy Regulatory Commission

[Project No. 13391-000]

Lock+™ Hydro Friends Fund I, LLC; Notice of Preliminary Permit Application Accepted for Filing and Soliciting Comments, Motions To Intervene, and Competing Applications

July 23, 2009.

On March 6, 2009, and supplemented on May 29, 2009, and June 26, 2009, Lock+™ Hydro Friends Fund I, LLC filed an application for a three-year preliminary permit, pursuant to section 4(f) of the Federal Power Act (FPA), to study the feasibility of the proposed Mighty Mouse Project. The Mighty Mouse Project would be located on the Mississippi River at the U.S. Army Corps of Engineers Lock and Dam No. 5a in Fountain City, Winona County, Minnesota, and in Buffalo County, Wisconsin.

The proposed project would consist of: (1) A new lock door placed in an auxiliary lock that would hold seven new turbine generating units with a total capacity of 4,963 kW; (2) new removable panels to control flow through the turbine units; and (3) appurtenant facilities. Project power would be transmitted through a 1,000-foot-long, 36.7-kV transmission line. The estimated annual generation is 41,330 megawatt-hours.

Applicant Contact: Mr. Wayne F. Krouse, Hydro Friends Fund I, LLC, 5090 Richmond Avenue, Suite 390, Houston, TX 77056; 877-556-6566, ext. 709.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13391) in the docket number field to access the document. For assistance, call toll-free 1-866-208-3372.

Kimberly D. Bose,
Secretary.

[FR Doc. E9-18150 Filed 7-29-09; 8:45 am]

BILLING CODE 6717-01-P